DEPARTMENT OF COMMERCE

National Oceanic and Atmospheric Administration

50 CFR Part 660

[Docket No.070430095-7095-01; I.D. 042707D]

RIN 0648-AV56

Fisheries Off West Coast States and in the Western Pacific; West Coast Salmon Fisheries; 2007 Management Measures

AGENCY: National Marine Fisheries Service (NMFS), National Oceanic and Atmospheric Administration (NOAA), Commerce.

ACTION: Final rule; annual management measures for the ocean salmon fishery; request for comments.

SUMMARY: NMFS establishes fishery management measures for the 2007 ocean salmon fisheries off Washington, Oregon, and California and the 2008 salmon seasons opening earlier than May 1, 2008. Specific fishery management measures vary by fishery and by area. The measures establish fishing areas, seasons, quotas, legal gear, recreational fishing days and catch limits, possession and landing restrictions, and minimum lengths for salmon taken in the U.S. exclusive economic zone (EEZ)(3-200 nm) off Washington, Oregon, and California. The management measures are intended to prevent overfishing and to apportion the ocean harvest equitably among treaty Indian, non-treaty commercial, and recreational fisheries. The measures are also intended to allow a portion of the salmon runs to escape the ocean fisheries in order to provide for spawning escapement and to provide for inside fisheries (fisheries occurring in state internal waters).

DATES: Effective from 0001 hours Pacific Daylight Time, May 1, 2007, until the effective date of the 2008 management measures, as published in the Federal Register. Comments must be received by May 18, 2007.

ADDRESSES: Comments on the management measures may be sent to D. Robert Lohn, Regional Administrator, Northwest Region, NMFS, 7600 Sand Point Way N.E., Seattle, WA 98115-0070, fax: 206-526-6376; or to Rod McInnis, Regional Administrator, Southwest Region, NMFS, 501 West Ocean Boulevard, Suite 4200, Long Beach, CA 90802-4213, fax: 562-980-4018. Comments can also be submitted via e-mail at the 2007oceansalmonregs.nwr@noaa.gov address, or through the internet at the Federal eRulemaking Portal: http://www.regulations.gov. Follow the instructions for submitting comments, and include docket number and/or RIN number in the subject line of the message.

Copies of the supplemental Finding of No Significant Impact (FONSI) and its supporting Environmental Assessment and other documents cited in this document are available from Dr. Donald O. McIsaac, Executive Director, Pacific Fishery Management Council, 7700 NE Ambassador Place, Suite 200, Portland, OR 97220-1384, and are posted on its website (www.pcouncil.org).

Send comments regarding the reporting burden estimate or any other aspect of the collection-of-information requirements in these management measures, including suggestions for reducing the burden, to one of the NMFS addresses listed above and to David Rostker, Office of Management and Budget (OMB), by email at David_Rostker@omb.eop.gov, or by fax at (202)395-7285.

FOR FURTHER INFORMATION CONTACT: Sarah McAvinchey at 206-526-4323, or Eric Chavez at 562-980-4064.

SUPPLEMENTARY INFORMATION:

Background

The ocean salmon fisheries in the EEZ off Washington, Oregon, and California are managed under a “framework” fishery management plan entitled the Pacific Coast Salmon Fishery Management Plan (Salmon FMP). Regulations at 50 CFR part 660, subpart H, provide the mechanism for making preseason and inseason adjustments to the management measures, within limits set by the Salmon FMP, by notification in the Federal Register.

These management measures for the 2007 and pre-May 2008 ocean salmon fisheries were recommended by the Pacific Fishery Management Council (Council) at its April 2 to 6, 2007, meeting.

Schedule Used to Establish 2007 Management Measures

The Council announced its annual preseason management process for the 2007 ocean salmon fisheries in the Federal Register on December 22, 2006 (71 FR 76958) and on their website at (www.pcouncil.org). This notice announced the availability of Council documents as well as the dates and locations of Council meetings and public hearings comprising the Council′s complete schedule of events for determining the annual proposed and final modifications to ocean salmon fishery management measures. The agendas for the March and April Council meetings were published in the Federal Register prior to the actual meetings.

In accordance with the Salmon FMP, the Council's Salmon Technical Team (STT) and staff economist prepared a series of reports for the Council, its advisors, and the public. The first of the reports was prepared in February when the scientific information necessary for crafting management measures for the 2007 and pre-May 2008 ocean salmon fishery first became available. The first report, “Review of 2006 Ocean Salmon Fisheries” (REVIEW), summarizes biological and socio-economic data for the 2006 ocean salmon fisheries and assesses how well the Council′s 2006 management objectives were met. The second report, “Preseason Report I Stock Abundance Analysis for 2007 Ocean Salmon Fisheries” (PRE I), provides the 2007 salmon stock abundance projections and analyzes the impacts on the stocks and Council management goals if the 2006 regulations and regulatory procedures were applied to the projected 2007 stock abundances. The completion of PRE I is the initial step in evaluating the full suite of preseason options.

The Council met in Sacramento, CA from March 5 to 9, 2007, to develop 2007 management options for proposal to the public. The Council proposed three options of commercial and recreational fisheries management for analysis and public comment. These options consisted of various combinations of management measures designed to protect weak stocks of coho and Chinook salmon and to provide for ocean harvests of more abundant stocks. After the March Council meeting, the Council′s STT and staff economist prepared a third report, “Preseason Report II Analysis of Proposed Regulatory Options for 2007 Ocean Salmon Fisheries,” which analyzes the effects of the proposed 2007 management options. This report was made available to the Council, its advisors, and the public.

Public hearings, sponsored by the Council, to receive testimony on the proposed options were held on March 26, 2007, in Westport, WA and Coos Bay, OR; and March 27, 2007, in Santa Rosa, CA. The States of Washington, Oregon, and California sponsored meetings in various forums that also collected public testimony, which was then presented to the Council by each state′s Council representative. The Council also received public testimony at both the March and April meetings and received written comments at the Council office.

The Council met from April 2 to 6, 2007, in Seatac, WA to adopt its final 2007 recommendations. Following the April Council meeting, the Council′s STT and staff economist prepared a fourth report, “Preseason Report III Analysis of Council-Adopted Management Measures for 2007 Ocean Salmon Fisheries,” which analyzes the environmental and socio-economic effects of the Council′s final recommendations. This report was also made available to the Council, its advisors, and the public. After the Council took final action on the annual ocean salmon specifications in April, it published the recommended management measures in its newsletter and also posted them on the Council website (www.pcouncil.org).

Resource Status

Since 1989, NOAA Fisheries Service has listed under the Endangered Species Act (ESA) 27 evolutionarily significant units (ESUs) of salmonids on the west coast. As the listings have occurred, NOAA Fisheries Service has conducted formal ESA section 7 consultations and issued biological opinions (BOs), and made determinations under section 4(d) of the ESA, that consider the impacts to listed salmonid species resulting from proposed implementation of the Salmon FMP, or in some cases, from proposed implementation of the annual management measures. Associated with the BOs are incidental take statements which specify the level of take that is expected. Some of the BOs have concluded that implementation of the Salmon FMP is not likely to jeopardize the continued existence of certain listed ESUs and provided incidental take statements. Other BOs have found the Salmon FMP is likely to jeopardize certain listed ESUs and have identified reasonable and prudent alternatives (consultation standards) that would avoid the likelihood of jeopardizing the continued existence of the ESU under consideration, and provided an incidental take statement for the reasonable and prudent alternative.

Estimates of the 2006 spawning escapements for key stocks managed under the Salmon FMP and preseason estimates of 2007 ocean abundance are provided in the Council′s REVIEW and PRE I documents. The primary resource and management concerns are for salmon stocks listed under the ESA.

At the start of the preseason planning process for the 2007 management season, NOAA Fisheries Service provided a letter to the Council, dated March 1, 2007, summarizing its ESA consultation standards for listed species as required by the Salmon FMP. The Council′s recommended management measures comply with NOAA Fisheries Service′s ESA consultation standards and guidance for those listed salmon species which may be affected by Council fisheries. In some cases, the recommended measures result in impacts that are more restrictive than NOAA Fisheries Service′s ESA requirements.

NOAA Fisheries provided new guidance to the Council and a new biological opinion regarding the effects of the 2007 fisheries on Lower Columbia River (LCR) coho and LCR Chinook salmon. This will be the second year that NOAA Fisheries has consulted on LCR coho. Since the listing of LCR coho in August, 2005 the states of Oregon and Washington have been working with NOAA Fisheries to develop and evaluate a management plan for LCR coho that can be used as the basis for their long-term management. The states have focused on use of a harvest matrix similar to the one used for Oregon Coast coho. Under the matrix the harvest allowed in a given year depends on indicators of marine survival and brood year escapement. Generally speaking, NOAA Fisheries supports use of management planning tools that allow harvest rates to vary depending on the year-specific circumstances.

In 2007, brood year and marine survival indicators were generally higher than they were in 2006. Given the circumstances the matrix would have allowed for a total exploitation rate of 29.2 percent. However, uncertainties related to selection of a particular long-term management strategy are such that it is still prudent to take a conservative approach to management until those questions can be resolved. Based on the above described circumstances, NOAA Fisheries′ guidance to the Council was that ocean salmon fisheries, and fisheries in the mainstem Columbia River should be managed subject to a total exploitation rate limit on LCR coho of 20 percent. As a consequence of this guidance the Council proposed to limit Council area fisheries to an exploitation rate of 13.0 percent recognizing that this provided for additional fishing opportunity in the Columbia River. The resulting coho quota for the area north of Cape Falcon in 2007 is 178,000 compared to 117,500 in 2006 and 195,000 in 2005.

NOAA Fisheries reinitiated consultation on an earlier biological opinion related to the effects on LCR Chinook. Since 2002, Council fisheries have been managed subject to a total exploitation rate limit of 49 percent for the “tule” component of the listed ESU. NOAA Fisheries reviewed the prior consultation standard to follow up on recommendations included in the recently completed Interim Recovery Plan, and as a routine practice of periodic updating and review of key management criteria. In the guidance letter to the Council in 2006 NOAA Fisheries indicated that it would be undertaking this review. NOAA Fisheries Northwest Region worked closely with the Northwest Fisheries Science Center and Washington Department of Fish and Wildlife when conducting the review. The 49-percent standard was based on an analysis of the Coweeman River population that was used as an indicator stock. During its review NOAA Fisheries updated the analysis for the Coweeman, and developed similar analyses for two additional populations from the Grays and East Fork Lewis rivers. The analysis led to a reduction in the exploitation rate standard to 42 percent, which was conveyed to the Council in the 2007 guidance letter. Lower Columbia River Chinook were already a stock that tended to constrain fishing opportunity in Council and lower Columbia River fisheries. By reducing the standard to 42 percent, fishing opportunity in the areas off the Washington and Oregon coast were further constrained. Fishing opportunity was further reduced in 2007 because the abundance of tule fall Chinook was generally lower compared to recent years. Based on the guidance provided, the Council proposed to limit Council fisheries to an exploitation rate of 20.3 percent. Additional mortality will occur in Alaskan and Canadian fisheries (16.9 percent) which will still provide for some limited opportunity for fisheries in the Columbia River. The Chinook catch quota for the area north of Cape Falcon in 2007 is 67,500, compared to 107,000 and 135,000 in 2006 and 2005.

Snake River fall Chinook are listed under the ESA as a threatened species and sometimes are a key stock that constrains Council area fisheries. Direct information on the stock′s ocean distribution and on fishery impacts is not available. The Lyons Ferry stock is widely distributed and harvested by ocean fisheries from southern California to Alaska. NOAA Fisheries Service′s ESA consultation standard requires that Council fisheries be managed to ensure that the Adult Equivalent (AEQ) exploitation rate on age 3 and age 4 adults for the combined Southeast Alaska, Canadian, and Council fisheries is not greater than 70 percent of that observed during the 1988 1993 base period. The Council′s 2007 recommended fisheries, combined with expected impacts in Southeast Alaska and Canada fisheries, have an estimated age 3/4 AEQ (adult equivalent) exploitation rate that is 68.5 percent of that observed during the 1988-1993 base period. Meeting the Snake River fall Chinook age 3/4 AEQ exploitation rate was not a primary constraint on fisheries north of Cape Falcon this year.

NOAA Fisheries Service′s guidance for Puget Sound Chinook stocks is expressed in terms of total or southern U.S. fishery exploitation rate ceilings, or terminal escapement objectives. Under the current management structure, Council fisheries are included as part of the suite of fisheries that comprise the fishing regime negotiated each year by the co-managers under U.S. v. Washington to meet management objectives for Puget Sound and Washington Coastal salmon stocks. Because these management objectives and the management planning structure address fisheries wherever they occur, Council and Puget Sound fisheries are interconnected. Therefore, in adopting its regulations, the Council recommends fisheries in the ocean that when combined with Puget Sound fisheries meet conservation objectives under Limit 6 of the Endangered Species Act (ESA) 4(d) Rule. NOAA Fisheries Service estimated that the exploitation rates from Council-managed fisheries on Puget Sound Chinook populations will range from zero to seven percent. Management actions taken to meet exploitation rate and escapement targets will, therefore, occur primarily in the Puget Sound fisheries, but the nature of the existing process is such that ocean fishery impacts must be accounted for as part of meeting comprehensive harvest management objectives.

Fisheries affecting Puget Sound Chinook are managed subject to provisions of a Resource Management Plan (RMP) developed by the Washington Department of Fish and Wildlife and the Puget Sound Treaty tribes. The RMP management approach consists of a two-tiered harvest regime (normal and minimum), depending on stock status. The harvest objectives in the RMP are a mixture of total and southern U.S. exploitation rates (termed in the RMP Rebuilding Exploitation Rates or RERs) and escapement goals. When a particular management unit is (1) not expected to meet its low abundance threshold, or (2) if the total exploitation rate is projected to exceed its RER under a proposed set of fisheries, the co-managers will constrain their fisheries such that either the RER is not exceeded, or the Critical Exploitation Rate Ceiling (CERC), is not exceeded. The Council′s proposed fisheries, in addition to anticipated inside fisheries, are consistent with the consultation standards for all of the Puget Sound indicator stocks.

ESA consultations for California Coastal Chinook (CCC) often constrain fisheries off Oregon and California. Klamath River Fall Chinook (KRFC) are used as an indicator stock for limiting harvest impacts to CCC. NOAA Fisheries guidance related to CCC requires that the Pacific ocean salmon fisheries be managed to a pre-season projected KRFC age 4 harvest rate of 16 percent or less. In 2006 the abundance of KRFC was very low and constrained fisheries even beyond those related to CCC. In 2007, the abundance of KRFC is much improved so that this age-4 ocean harvest rate of 16 percent is again limiting. The Council′s proposed fisheries satisfy the 16-percent harvest rate constraint for CCC.

Southern resident killer whales were listed as endangered effective February 16, 2006. NOAA Fisheries consulted on the effects of the 2006 fisheries on killer whales and concluded that the fisheries were not likely to jeopardize the continued existence of the species. NOAA Fisheries is again consulting regarding the effects on the 2007 fisheries on killer whales through a separate biological opinion. NOAA Fisheries expects to complete the consultation prior to May 1, 2007. NOAA Fisheries has determined that the anticipated fisheries will not make any irreversible or irretrievable commitment of resources with respect to the agency action which has the effect of foreclosing the formulation or implementation of any reasonable and prudent alternative measures. In the event that the review suggests that further constraints in the 2007 fisheries are necessary, appropriate corrections can be made by NOAA Fisheries through inseason action.

Management Measures for 2007 Fisheries

The Council-recommended ocean harvest levels and management measures for 2007 fisheries are designed to apportion the burden of protecting the weak stocks identified and discussed in PRE I equitably among ocean fisheries and to allow maximum harvest of natural and hatchery runs surplus to inside fishery and spawning needs. NMFS finds the Council′s recommendations responsive to the goals of the Salmon FMP, the requirements of the resource, and the socio-economic factors affecting resource users. The recommendations are consistent with the requirements of the Magnuson-Stevens Fishery Conservation and Management Act and U.S. obligations to Indian tribes with federally recognized fishing rights, and U.S. international obligations regarding Pacific salmon. Accordingly, NMFS has adopted them.

North of Cape Falcon the 2007 management measures have a substantially lower Chinook quota and a higher coho quota relative to the 2006 season. The total allowable catch for 2007 is 32,500 Chinook and 140,000 marked hatchery coho; these fisheries are restricted to protect depressed Lower Columbia River wild coho, Washington coastal coho, Puget Sound coho, Oregon Coastal Natural (OCN) coho, Interior Fraser River coho, Puget Sound Chinook, and Snake River fall Chinook. Washington coastal and Puget Sound Chinook generally migrate to the far north and are not greatly affected by ocean harvests from Cape Falcon, OR, to the U.S.-Canada border. Nevertheless, ocean fisheries in combination with fisheries inside Puget Sound were restricted in order to meet ESA related conservation objectives for Puget Sound Chinook. North of Cape Alava, WA, the Council recommends a provision prohibiting retention of chum salmon during August and September to protect ESA listed Hood Canal summer chum. The Council has recommended such a prohibition for the last six years.

South of Cape Falcon, OR, the retention of coho is prohibited, except for a recreational selective fishery off Oregon with a 50,000-fish quota of marked hatchery coho. This is the fourth year the selective fishery includes the southern coastal area of Oregon. The Council′s recommendations are below the 20-percent exploitation rate permitted under Amendment 13 to protect OCN coho stocks, with an expected 11.3-percent OCN coho exploitation rate. The expected ocean exploitation rate for Rogue/Klamath coho is 5.8 percent, and is also below its exploitation rate limit of 13.0 percent. Chinook fisheries off Oregon and California are constrained to meet the conservation objective of California Coastal Chinook and the ESA consultation standards for Sacramento River winter Chinook.

Treaty Indian Fisheries for 2007

The treaty-Indian commercial troll fishery quota is 35,000 Chinook in ocean management areas and Washington State Statistical Area 4B combined. This quota is slightly higher than the 22,700-Chinook quota in 2006. The fisheries include a Chinook-directed fishery in May and June (under a quota of 21,500 Chinook) and an all-salmon season beginning July 1 with a 13,500 Chinook sub-quota. The coho quota for the treaty-Indian troll fishery in ocean management areas, including Washington State Statistical Area 4B for the July-September period is 38,000 coho, a slight increase from the 37,500-coho quota in 2006.

Management Measures for 2008 Fisheries

The timing of the March and April Council meetings makes it impracticable for the Council to recommend fishing seasons that begin before May 1 of the same year. Therefore, the 2008 fishing seasons opening earlier than May 1 are also established in this action. The Council recommended, and NMFS concurs, that the recreational seasons off California from Horse Mountain to the U.S.-Mexico Border and off Oregon from Cape Falcon to Humbug Mountain, and the commercial troll seasons off California from Horse Mountain to Point Arena and off Oregon from Cape Falcon to the Oregon-California Border and will open in 2008 as indicated in the Season Description section. At the March 2008 meeting, the Council may consider inseason recommendations to adjust the commercial season prior to May 1 in the areas off Oregon and California.

Inseason Actions

The following sections set out the management regime for the salmon fishery. Open seasons and days are described in Sections 1, 2, and 3 of the 2007 management measures. Inseason closures in the commercial and recreational fisheries are announced on the NMFS hotline and through the U.S. Coast Guard Notice to Mariners as described in Section 6. Other inseason adjustments to management measures are also announced on the hotline and through the Notice to Mariners. Inseason actions will also be published the Federal Register as soon as practicable.

The following are the management measures recommended by the Council and approved and implemented here for 2007 and, as specified, for 2008.

Section 1. Commercial Management Measures for 2007 Ocean Salmon Fisheries

Note: This section contains restrictions in parts A, B, and C that must be followed for lawful participation in the fishery. Each fishing area identified in part A specifies the fishing area by geographic boundaries from north to south, the open seasons for the area, the salmon species allowed to be caught during the seasons, and any other special restrictions effective in the area. Part B specifies minimum size limits. Part C specifies special requirements, definitions, restrictions and exceptions.

A. Season Description

North of Cape Falcon, OR

U.S./Canada Border to Cape Falcon

May 1 through earlier of June 30 or 10,850 Chinook quota.Open May 1-2 and 5-8 with a landing and possession limit of 60 Chinook per vessel for each open period north of Leadbetter Point and 40 Chinook south of Leadbetter Point; beginning May 12, open Saturday through Tuesday with a landing and possession limit of 60 Chinook per vessel for each four-day open period north of Leadbetter Point and 30 Chinook south of Leadbetter Point. All salmon except coho (C.7). Cape Flattery, Mandatory Yelloweye Rockfish Conservation Area, and Columbia Control Zones closed (C.5). See gear restrictions and definitions (C.2, C.3). Oregon State regulations require that fishers south of Cape Falcon, OR intending to fish within this area notify Oregon Department of Fish and Wildlife before transiting the Cape Falcon, OR line (45°46′00″ N. lat.) at the following number: 541-867-0300 Ext. 271. Vessels must land and deliver their fish within 24 hours of any closure of this fishery. Under state law, vessels must report their catch on a state fish receiving ticket. Vessels fishing north of Leadbetter Point must land and deliver their fish within the area and north of Leadbetter Point. Vessels fishing south of Leadbetter Point must land and deliver their fish within the area and south of Leadbetter Point, except that Oregon permitted vessels may also land their fish in Garibaldi, Oregon. Oregon State regulations require all fishers landing salmon into Oregon from any fishery between Leadbetter Point, Washington and Cape Falcon, Oregon must notify ODFW within one hour of delivery or prior to transport away from the port of landing by calling 541-867-0300 Ext. 271. Notification shall include vessel name and number, number of salmon by species, port of landing and location of delivery, and estimated time of delivery. Inseason actions may modify harvest guidelines in later fisheries to achieve or prevent exceeding the overall allowable troll harvest impacts (C.8).

July 1 through earlier of September 16 or 5,400 preseason Chinook guideline (C.8) or a 22,400 marked coho quota (C.8.d).Open Saturday through Tuesday. Landing and possession limit of 40 Chinook per vessel per open period north of Leadbetter Point and 20 Chinook south of Leadbetter Point (C.2, C.3). All Salmon except no chum retention north of Cape Alava, Washington in August and September. If sufficient coho quota remains after the Chinook quota is projected to be reached, the area south of Leadbetter Point will remain open to all salmon except Chinook, provided adequate Chinook quota remains to account for non-retention mortality (C.7). All coho must have a healed adipose fin clip, except an inseason conference call may occur to consider allowing retention of all legal sized coho, in the area between Leadbetter Point and Cape Falcon, no earlier than September 1 (C.8.d). Cape Flattery, Mandatory Yelloweye Rockfish Conservation Area, and Columbia Control Zones closed (C.5). Oregon State regulations require that fishers south of Cape Falcon, OR intending to fish within this area notify Oregon Department of Fish and Wildlife before transiting the Cape Falcon, OR line (45°46′00″ N. lat.) at the following number: 541-867-0300 Ext. 271. Vessels must land and deliver their fish within 24 hours of any closure of this fishery. Under state law, vessels must report their catch on a state fish receiving ticket. Vessels fishing north of Leadbetter Point must land and deliver their fish within the area and north of Leadbetter Point. Vessels fishing south of Leadbetter Point must land and deliver their fish within the area and south of Leadbetter Point, except that Oregon permitted vessels may also land their fish in Garibaldi, OR. Oregon State regulations require all fishers landing salmon into Oregon from any fishery between Leadbetter Point, Washington and Cape Falcon, Oregon must notify ODFW within one hour of delivery or prior to transport away from the port of landing by calling 541-867-0300 Ext. 271. Notification shall include vessel name and number, number of salmon by species, port of landing and location of delivery, and estimated time of delivery. Inseason actions may modify harvest guidelines in later fisheries to achieve or prevent exceeding the overall allowable troll harvest impacts (C.8).

South of Cape Falcon

Cape Falcon to Florence South Jetty, OR (Newport/Tillamook)

Except as provided below during the non-selective coho fishery, the season will be open April 10-29; May 1 through June 30; July 11-30; August 4-28; September 10-13; and October 1-31. There will be a landing and possession limit of 100 Chinook per vessel per calendar week in April; 150 Chinook per vessel per calendar week in September; and 75 Chinook per vessel per calendar week in October (C.9). All salmon except coho (C.7). Chinook 28 inch (71.12 cm) total length minimum size (B). All vessels fishing in the area must land their fish in the State of Oregon. See gear restrictions and definitions (C.2, C.3) and Oregon State regulations for a description of special regulations at the mouth of Tillamook Bay.

Non-selective coho fishery: August 15 through the earlier of September 13 or a 10,000 non-mark-selective coho quota. The non-selective coho quota of 10,000 includes the entire area from Cape Falcon to Humbug Mt. Open August 15-28; Sept. 10-13. All salmon; no coho mark restriction; landing and possession limit of 50 coho per vessel per calendar week in August and September; landing and possession limit of 150 Chinook per vessel per calendar week in September (C.7). The all salmon except coho season reopens the earlier of October 1 or attainment of the coho quota, subject to the open dates listed above. Chinook 28 inch (71.12) total length minimum size (B). All vessels fishing in the area must land their fish in the State of Oregon. See gear restrictions and definitions (C.2, C.3) and Oregon State regulations for a description of special regulations at the mouth of Tillamook Bay.

In 2008, the season will open March 15 for all salmon except coho. This opening could be modified following Council review at its March 2008 meeting.

Florence South Jetty to Humbug Mountain, OR (Coos Bay)

Same as Cape Falcon to Florence South Jetty, above, except: The Bandon High Spot Control Zone, defined as the area west of a line between 43°07′00″ N. lat.; 124°37′00″ W. long. and 42°40′30″ N. lat; 124°52′0″ W. long. (area approximately outside 6 nm from the Bandon south jetty to Humbug Mt.) will be closed in September and October (C.5.d). If Chinook catch in the area from Florence South Jetty to Humbug Mountain, OR is projected to reach 15,000 in August, inseason action will be taken to close the Bandon High Spot Control Zone through August 31 (C.5.d).

Humbug Mountain to Oregon-California Border (Oregon KMZ)

April 10-29; May 1-31. June 1 through earlier of June 30, or a 1,600-Chinook quota. July 11 through earlier of July 31, or a 1,600-Chinook quota. Aug. 1 through earlier of Aug. 29, or a 1,800-Chinook quota. Sept. 6 through earlier of Sept. 30, or a 1,000-Chinook quota (C.9). All salmon except coho. Chinook 28 inch (71.12 cm) total length minimum size limit (B). Landing and possession limit of 100 Chinook per vessel per calendar week in April; 30 Chinook per vessel per day and 90 Chinook per vessel per calendar week during June, July, August, and September. See gear restrictions and definitions (C.2, C.3). Prior to June 1, all vessels fishing in the area must land their fish in the State of Oregon. June 1 through September 30, vessels must land their fish in Gold Beach, Port Orford, or Brookings, Oregon, and within 24 hours of closure. State regulations require fishers intending to transport and deliver their catch to other locations after first landing in one of these ports to notify ODFW prior to transport away from the port of landing by calling 541-867-0300 Ext. 271, with vessel name and number, number of salmon by species, location of delivery, and estimated time of delivery.

In 2008, the season will open March 15 for all salmon except coho, with a 28-inch (71.12 cm) Chinook minimum size limit. This opening could be modified following Council review at its March 2008 meeting.

Oregon-California Border to Humboldt South Jetty, CA (California KMZ)

September 10 through earlier of September 30, or 6,000 Chinook quota. All salmon except coho. Chinook minimum size limit of 28 inches (71.12 cm) total length. Landing and possession limit of 30 fish per vessel per day. All fish caught in this area must be landed within the area. See compliance requirements (C.1) and gear restrictions and definitions (C.2, C.3). Klamath Control Zone closed (C.5.e). See California State regulations for additional closures adjacent to the Smith and Klamath rivers. When the fishery is closed between the OR/CA border and Humbug Mt. and open to the south, vessels with fish on board caught in the open area off California may seek temporary mooring in Brookings, Oregon prior to landing in California only if such vessels first notify the Chetco River Coast Guard Station via VHF channel 22A between the hours of 0500 and 2200 and provide the vessel name, number of fish on board, and estimated time of arrival.

Humboldt South Jetty to Horse Mountain, CA

Closed (C.9).

Horse Mountain to Point Arena, CA (Fort Bragg)

April 9 through the earlier of April 27 or a Chinook quota of 2,000; open Monday to Friday. August 1-29; September 1-30 (C.9). All salmon except coho. Chinook minimum size limit of 27 inches (68.58 cm) total length in April and September; 28 inches (71.12 cm) total length in August (B). Landing and possession limit of 20 fish per vessel per day in April. All fish caught in the area must be landed within the area in April; all fish must be offloaded within 24 hours of any closure (C1). See gear restrictions and definitions (C.2, C.3).

In 2008, the season will open April 7-25, Monday to Friday for all salmon except coho, with a 27-inch (68.58 cm) total length Chinook minimum size limit. This opening could be modified following Council review at its March 2008 meeting.

Point Arena to Pigeon Point, CA (San Francisco)

May 9-31; July 1 through August 29; September 1-30. (C.9). All salmon except coho. Chinook minimum size limit of 27 inches (68.58 cm) total length in May and September; 28 inches (71.12 cm) total length in July and August (B). All fish must be offloaded within 24 hours of the August 29 closure (C.1). See gear restrictions and definitions (C.2, C.3).

Point Reyes to Point San Pedro, CA (Fall Area Target Zone)

October 1-5; 8-12. Open Monday through Friday. All salmon except coho (C.1). Chinook minimum size limit of 27 inches (68.58 cm) total length (B). See gear restrictions and definitions (C.2, C.3).

Pigeon Point to Point Sur, CA (Monterey)

May 1-31; July 1 through August 29; September 1-30. (C.9). All salmon except coho. Chinook minimum size limit of 27 inches (68.58 cm) total length in May and September; 28 inches (71.12 cm) total length in July and August (B). All fish must be offloaded within 24 hours of the August 29 closure (C.1). See gear restrictions and definitions (C.2, C.3).

Point Sur to U.S.-Mexico Border

May 1 through September 30. All salmon except coho. Chinook minimum size limit of 27 inches (68.58 cm) total length in May, June, and September; 28 inches (71.12 cm) total length in July and August. See gear restrictions and definitions (C.2, C.3).

B. Minimum Size (Inches) (See C.1)

Area (when open) and Fishery | Chinook: Total Length | Chinook: Head-off | Coho: Total Length | Coho: Head-off | Coho: Pink
North of Cape Falcon, OR | 28.0 | 21.5 | 16.0 | 12.0 | None
Cape Falcon to OR-CA Border | 28.0 | 21.5 | 16.0 | 12.0 |
OR-CA Border to Horse Mountain, CA | 28.0 | 21.5 | - | - | None
Horse Mountain to Point Arena, CA | 27.0 | 20.5 | - | - | None
Pt. Arena to US-Mexico Border
Prior to July 1 and after August 31 | 27.0 | 20.5 | - | - | None
July 1 - August 31 | 28.0 | 21.5 | - | - | None
Metric equivalents: 28.0 in=71.1 cm, 27.0 in=68.6 cm, 26.0 in=66.0 cm, 21.5 in=54.6 cm, 19.5 in=49.5 cm, 16.0in=40.6 cm, and 12.0 in=30.5 cm.

C. Special Requirements, Definitions, Restrictions, or Exceptions

C.1.Compliance with Minimum Size or Other Special Restrictions: All salmon on board a vessel must meet the minimum size, landing/possession limit, or other special requirements for the area being fished and the area in which they are landed if the area is open. Salmon may be landed in an area that has been closed more than 96 hours only if they meet the minimum size, landing/possession limit, or other special requirements for the area in which they were caught. Salmon may be landed in an area that has been closed less than 96 hours only if they meet the minimum size, landing/possession limit, or other special requirements for the areas in which they were caught and landed.

States may require fish landing/receiving tickets be kept on board the vessel for 90 days after landing to account for all previous salmon landings.

C.2.Gear Restrictions: Salmon may be taken only by hook and line using barbless hooks.

a. Single point, single shank, barbless hooks are required in all fisheries.

b. Cape Falcon, Oregon, to the OR/CA border: No more than 4 spreads are allowed per line.

c. OR/CA border to U.S./Mexico border: No more than 6 lines are allowed per vessel, and barbless circle hooks are required when fishing with bait by any means other than trolling.

C.3.Gear Definitions:

Trolling defined: Fishing from a boat or floating device that is making way by means of a source of power, other than drifting by means of the prevailing water current or weather conditions.

Troll fishing gear defined: One or more lines that drag hooks behind a moving fishing vessel. In that portion of the fishery management area (FMA) off Oregon and Washington, the line or lines must be affixed to the vessel and must not be intentionally disengaged from the vessel at any time during the fishing operation.

Spread defined: A single leader connected to an individual lure or bait.

Circle hook defined: A hook with a generally circular shape and a point which turns inward, pointing directly to the shank at a 90°angle.

C.4.Transit Through Closed Areas with Salmon on Board: It is unlawful for a vessel to have troll or recreational gear in the water while transiting any area closed to fishing for a certain species of salmon, while possessing that species of salmon; however, fishing for species other than salmon is not prohibited if the area is open for such species, and no salmon are in possession.

C.5.Control Zone Definitions:

a. Cape Flattery Control Zone: The area from Cape Flattery (48°23′00″ N. lat.) to the northern boundary of the U.S. EEZ; and the area from Cape Flattery south to Cape Alava (48°10′00″ N. lat.) and east of 125°05′00″ W. long.

b. Mandatory Yelloweye Rockfish Conservation Area: The area in Washington Marine Catch Area 3 from 48°00.00′ N. lat.; 125°14.00′ W. long. to 48°02.00′ N. lat.; 125°14.00′ W. long. to 48°02.00′ N. lat.; 125°16.50′ W. long. to 48°00.00′ N. lat.; 125°16.50′ W. long. and connecting back to 48°00.00′ N. lat.; 125°14.00′ W. long.

c. Columbia Control Zone: An area at the Columbia River mouth, bounded on the west by a line running northeast/southwest between the red lighted Buoy #4 (46°(degree symbols)13′35″ N. lat., 124#06′50″ W. long.) and the green lighted Buoy #7 (46°15′09′ N. lat., 124°06′16″ W. long.); on the east, by the Buoy #10 line which bears north/south at 357° true from the south jetty at 46°14′00″ N. lat.,124°03′07″ W. long. to its intersection with the north jetty; on the north, by a line running northeast/southwest between the green lighted Buoy #7 to the tip of the north jetty (46°15′48″ N. lat., 124°05′20″ W. long.), and then along the north jetty to the point of intersection with the Buoy #10 line; and, on the south, by a line running northeast/southwest between the red lighted Buoy #4 and tip of the south jetty (46°14′03″ N. lat., 124°04′05″ W. long.), and then along the south jetty to the point of intersection with the Buoy #10 line.

d. Bandon High Spot Control Zone: The area west of a line between 43°07′00″ N. lat.; 124°37′00″ W. long. and 42°40′30″ N. lat; 124°52′0″ W. long. extending to the western edge of the exclusive economic zone (EEZ).

e. Klamath Control Zone: The ocean area at the Klamath River mouth bounded on the north by 41°38′48″ N. lat. (approximately six nautical miles north of the Klamath River mouth); on the west, by 124°23′00″ W. long. (approximately 12 nautical miles off shore); and on the south, by 41°26′48″ N. lat. (approximately six nautical miles south of the Klamath River mouth).

C.6. Notification When Unsafe Conditions Prevent Compliance with Regulations: If prevented by unsafe weather conditions or mechanical problems from meeting special management area landing restrictions, vessels must notify the U.S. Coast Guard and receive acknowledgment of such notification prior to leaving the area. This notification shall include the name of the vessel, port where delivery will be made, approximate amount of salmon (by species) on board, and the estimated time of arrival.

C.7. Incidental Halibut Harvest: During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on. License applications for incidental harvest must be obtained from the International Pacific Halibut Commission (phone: 206-634-1838). Applicants must apply prior to April 1 of each year. Incidental harvest is authorized only during May and June troll seasons and after June 30 if quota remains and if announced on the NMFS hotline (phone: 800-662-9825). ODFW and Washington Department of Fish and Wildlife (WDFW) will monitor landings. If the landings are projected to exceed the 40,227-lb (18,246.66 Kg) preseason allocation or the total Area 2A non-Indian commercial halibut allocation, NMFS will take inseason action to close the incidental halibut fishery.

Beginning May 1, license holders may land no more than one Pacific halibut per each three Chinook, except one Pacific halibut may be landed without meeting the ratio requirement, and no more than 35 halibut may be landed per trip. Pacific halibut retained must be no less than 32 inches (81.28 cm) in total length (with head on).

A “C-shaped” yelloweye rockfish conservation area is an area to be voluntarily avoided for salmon trolling. NMFS and the Council request salmon trollers voluntarily avoid this area in order to protect yelloweye rockfish. The area is defined in the Pacific Council Halibut Catch Sharing Plan in the North Coast subarea (Washington marine area 3), with the following coordinates in the order listed:

48°18′ N. lat.; 125°18′ W. long.;

48°18′ N. lat.; 124°59′ W. long.;

48°11′ N. lat.; 124°59′ W. long.;

48°11′ N. lat.; 125°11′ W. long.;

48°04′ N. lat.; 125°11′ W. long.;

48°04′ N. lat.; 124°59′ W. long.;

48°00′ N. lat.; 124°59′ W. long.;

48°00′ N. lat.; 125°18′ W. long.;

and connecting back to 48°18′ N. lat.; 125°18′ W. long.

C.8.Inseason Management: In addition to standard inseason actions or modifications already noted under the season description, the following inseason guidance is provided to NMFS:

a. Chinook remaining from the May through June non-Indian commercial troll harvest guideline north of Cape Falcon may be transferred to the July through September harvest guideline on a fishery impact equivalent basis.

b. NOAA Fisheries may transfer Chinook and coho between the recreational and commercial fisheries north of Cape Falcon on an impact neutral basis if there is agreement among the areas′ representatives on the SAS.

c. At the March 2008 meeting, the Council will consider inseason recommendations for special regulations for any experimental fisheries (proposals must meet Council protocol and be received in November 2007).

d. If retention of unmarked coho is permitted in the area from the U.S./Canada border to Cape Falcon, Oregon, by inseason action, the allowable coho quota will be adjusted to ensure preseason projected mortality of critical stocks is not exceeded.

C.9. Consistent with Council management objectives:

a. The State of Oregon may establish additional late-season fisheries in state waters.

b. The State of California may establish limited fisheries in selected state waters. Check state regulations for details.

C.10. For the purposes of California Department of Fish and Game (CDFG) Code, Section 8232.5, the definition of the KMZ for the ocean salmon season shall be that area from Humbug Mt., Oregon, to Horse Mt., California.

Section 2. Recreational Management Measures for 2007 Ocean Salmon Fisheries

Note: This section contains restrictions in parts A, B, and C that must be followed for lawful participation in the fishery. Each fishing area identified in part A specifies the fishing area by geographic boundaries from north to south, the open seasons for the area, the salmon species allowed to be caught during the seasons, and any other special restrictions effective in the area. Part B specifies minimum size limits. Part C specifies special requirements, definitions, restrictions and exceptions.

A. Season Description

North of Cape Falcon, OR (remove underline here)

U.S.-Canada Border to Cape Alava, WA (Neah Bay Subarea)

July 3 through earlier of September 15 or 12,230 marked coho subarea quota with a subarea guideline of 1,725 Chinook. Tuesday through Saturday. All salmon, except no chum retention August 1 through Sept. 15; two fish per day, no more than one of which may be a Chinook, plus one additional pink salmon beginning August 1. Chinook 24-inch (60.96 cm) total length minimum size limit (B). All retained coho must be marked. See gear restrictions (C.2). Beginning August 1, Chinook non-retention east of the Bonilla-Tatoosh line (C.4.a) during Council managed ocean fishery. Inseason management may be used to sustain season length and keep harvest within the overall Chinook recreational TAC for north of Cape Falcon (C.5).

Cape Alava to Queets River, WA (La Push Subarea)

July 3 through earlier of September 15 or 2,960 marked coho subarea quota with a subarea guideline of 725 Chinook (C.5). September 22 through October 7 or 100 marked coho quota or 100 Chinook quota (C.5), in the area north of 47°50′00 N. lat. and south of 48°00′00″ N. lat. (C.6). Tuesday through Saturday through September 15; seven days per week beginning September 22. All salmon, two fish per day, no more than one of which may be a Chinook, plus one additional pink salmon beginning August 1. Chinook 24-inch (60.96 cm) total length minimum size limit (B). All retained coho must be marked. See gear restrictions (C.2). Inseason management may be used to sustain season length and keep harvest within the overall Chinook recreational TAC for north of Cape Falcon (C.5).

Queets River to Leadbetter Point, WA (Westport Subarea)

July 1 through earlier of September 16 or 43,510 marked coho subarea quota with a subarea guideline of 9,400 Chinook (C.6).Sunday through Thursday. All salmon, two fish per day, no more than one of which may be a Chinook. Chinook 24-inch (60.96 cm) total length minimum size limit (B). All retained coho must be marked. See gear restrictions and definitions (C.2, C.3). Grays Harbor Control Zone closed beginning August 1 (C.4.b). Inseason management may be used to sustain season length and keep harvest within the overall Chinook recreational TAC for north of Cape Falcon (C.5).

Leadbetter Point to Cape Falcon, OR (Columbia River Subarea)

July 1 through earlier of September 30 or 58,800 marked coho subarea quota with a subarea guideline of 4,300 Chinook (C.6).Seven days per week. All salmon, two fish per day, no more than one of which may be a Chinook. Chinook 24-inch (60.96 cm) total length minimum size limit (B). All retained coho must be marked. See gear restrictions and definitions (C.2, C.3). Columbia Control Zone closed (C.4.c). Inseason management may be used to sustain season length and keep harvest within the overall Chinook recreational TAC for north of Cape Falcon (C.5).

South of Cape Falcon, OR

Cape Falcon to Humbug Mountain, OR

Except as provided below during the selective fishery, the season will be March 15 through October 31 (C.6). All salmon except coho; two fish per day (C.1). See gear restrictions and definitions (C.2, C.3).

Mark selective fishery: Cape Falcon to OR/CA Border: June 23 through earlier of September 16 or a landed catch of 50,000 marked coho, except that the area south of Humbug Mt. will close Sept. 4, concurrent with the KMZ season listed below. The all salmon except coho seasons reopen the earlier of September 17 or attainment of the coho quota. Open seven days per week, all salmon, except coho, two fish per day (C.1). All retained coho must be marked with a healed adipose fin clip. Chinook minimum size limit of 24 inches (60.96 cm) total length. Fishing in the Stonewall Bank groundfish conservation area restricted to trolling only on days the all depth recreational halibut fishery is open (see 70 FR 20304, and call the halibut fishing hotline 1-800-662-9825 for additional dates) (C.3, C.4.d). Open days may be adjusted inseason to utilize the available quota (C.5). All salmon except coho seasons reopen the day following the closure of the mark selective coho fishery.

In 2008, the season will open March 15 for all salmon except coho, two fish per day (C.1). Chinook minimum size limit of 24 inches (60.96 cm) total length (B); and the same gear restrictions as in 2007 (C.2, C.3).

Humbug Mountain to Oregon-California Border, CA (Oregon KMZ)

Except as provided above during the selective fishery, the season will be May 5 through September 4 (C.6). All salmon except coho, except as noted above in the coho mark selective fishery. Chinook minimum size limit of 24 inches (60.96 cm) total length (B). Seven days per week, two fish per day (C.1). See gear restrictions and definitions (C.2, C.3).

Oregon-California Border to Horse Mountain, CA(California KMZ)

May 5 through September 4 (C.6). All salmon except coho. Chinook minimum size limit of 24 inches (60.96 cm) total length (B). Seven days per week, two fish per day (C.1). See gear restrictions and definitions (C.2, C.3). Klamath Control Zone closed in August (C.4.e). See California State regulations for additional closures adjacent to the Smith, Klamath, and Eel rivers.

Horse Mountain to Point Arena, CA (Fort Bragg)

February 17 through November 11. All salmon except coho. Two fish per day (C.1). Chinook minimum size limit of 20 inches (50.8 cm) total length (B). See gear restrictions and definitions (C.2, C.3).

In 2008, season opens February 16 (nearest Saturday to February 15) for all salmon except coho, two fish per day (C.1). Chinook minimum size limit of 20 inches (50.8 cm) total length (B); and the same gear restrictions as in 2007 (C.2, C.3).

Point Arena to Pigeon Point, CA (San Francisco)

April 7 through November 11. All salmon except coho. Two fish per day (C.1). Chinook minimum size limit of 20 inches (50.8 cm) total length (B). See gear restrictions and definitions (C.2, C.3).

In 2008, the season will open April 5 for all salmon except coho, two fish per day (C.1). Chinook minimum size limit of 20 inches (50.8 cm) total length (B); and the same gear restrictions as in 2007 (C.2, C.3).

Pigeon Point to U.S.-Mexico Border (Monterey South)

April 7 through October 7. All salmon except coho. Two fish per day (C.1). Chinook minimum size limit of 20 inches (50.8 cm) total length (B). See gear restrictions and definitions (C.2, C.3).

In 2008, the season will open April 5 for all salmon except coho, two fish per day (C.1). Chinook minimum size limit of 20 inches (50.8 cm) total length (B); and the same gear restrictions as in 2007 (C.2, C.3).

B. Minimum Size (Total Length in Inches) (See C.1)

Area (when open) | Chinook | Coho | Pink
North of Cape Falcon, OR | 24.0 | 16.0 | None
Cape Falcon to OR-CA Border | 20.0 | 16.0 | None
OR-CA Border to Horse Mountain | 24.0 |  | 20.0
Horse Mt. to U.S.-Mexico Border | 20.0 |  | 20.0
Metric equivalents: 26.0 in=66.0 cm, 24.0 in=61.0 cm, 20.0 in=50.8 cm, 16.0 in=40.6 cm.

C. Special Requirements, Definitions, Restrictions, or Exceptions

C.1. Compliance with Minimum Size and Other Special Restrictions: All salmon on board a vessel must meet the minimum size or other special requirements for the area being fished and the area in which they are landed if that area is open. Salmon may be landed in an area that is closed only if they meet the minimum size or other special requirements for the area in which they were caught.

Ocean Boat Limits: Off the coast of Washington, Oregon, and California, each fisher aboard a vessel may continue to use angling gear until the combined daily limits of salmon for all licensed and juvenile anglers aboard has been attained (additional state restrictions may apply).

C.2. Gear Restrictions: Salmon may be taken only by hook and line using barbless hooks. All persons fishing for salmon, and all persons fishing from a boat with salmon on board, must meet the gear restrictions listed below for specific areas or seasons.

a. U.S./Canada Border to Point Conception, California: No more than one rod may be used per angler; and no more than two single point, single shank barbless hooks are required for all fishing gear. [Note: ODFW regulations in the state-water fishery off Tillamook Bay may allow the use of barbed hooks to be consistent with inside regulations.]

b. Cape Falcon, Oregon, to Point Conception, California: Anglers must use no more than two single point, single shank, barbless hooks.

c. Horse Mt., California, to Point Conception, California: Single point, single shank, barbless circle hooks (below) are required when fishing with bait by any means other than trolling, and no more than two such hooks shall be used. When angling with two hooks, the distance between the hooks must not exceed 5 inches (12.7 cm) when measured from the top of the eye of the top hook to the inner base of the curve of the lower hook, and both hooks must be permanently tied in place (hard tied). Circle hooks are not required when artificial lures are used without bait.

C.3. Gear Definitions:

a. Recreational fishing gear defined: Angling tackle consisting of a line with no more than one artificial lure or natural bait attached. Off Oregon and Washington, the line must be attached to a rod and reel held by hand or closely attended; the rod and reel must be held by hand while playing a hooked fish. No person may use more than one rod and line while fishing off Oregon or Washington. Off California, the line must be attached to a rod and reel held by hand or closely attended. Weights directly attached to a line may not exceed four pounds (1.8 kg). While fishing off California north of Point Conception, no person fishing for salmon, and no person fishing from a boat with salmon on board, may use more than one rod and line. Fishing includes any activity which can reasonably be expected to result in the catching, taking, or harvesting of fish.

b. Trolling defined: Angling from a boat or floating device that is making way by means of a source of power, other than drifting by means of the prevailing water current or weather conditions.

c. Circle hook defined: A hook with a generally circular shape and a point which turns inward, pointing directly to the shank at a 90 angle.

C.4. Control Zone Definitions:

a. The Bonilla-Tatoosh Line: A line running from the western end of Cape Flattery to Tatoosh Island Lighthouse (48°23′30″ N. lat., 124°44′12″ W. long.) to the buoy adjacent to Duntze Rock (48°28′00″ N. lat., 124°45′00″ W. long.), then in a straight line to Bonilla Point (48°35′30″ N. lat., 124°43′00″ W. long.) on Vancouver Island, British Columbia.

b. Grays Harbor Control Zone: The area defined by a line drawn from the Westport Lighthouse (46°53′18″ N. lat., 124°07′01″ W. long.) to Buoy #2 (46°52′42″ N. lat., 124°12′42″ W. long.) to Buoy #3 (46°55′00″ N. lat., 124°14′48″ W. long.) to the Grays Harbor north jetty (46°36′00″ N. lat., 124°10′51″ W. long.).

c. Columbia Control Zone: An area at the Columbia River mouth, bounded on the west by a line running northeast/southwest between the red lighted Buoy #4 (46°13′35″ N. lat., 124°06′50″ W. long.) and the green lighted Buoy #7 (46°15′09′ N. lat., 124°06′16″ W. long.); on the east, by the Buoy #10 line which bears north/south at 357°true from the south jetty at 46°14′00″ N. lat., 124°03′07″ W. long. to its intersection with the north jetty; on the north, by a line running northeast/southwest between the green lighted Buoy #7 to the tip of the north jetty (46°15′48″ N. lat., 124°05′20″ W. long. and then along the north jetty to the point of intersection with the Buoy #10 line; and on the south, by a line running northeast/southwest between the red lighted Buoy #4 and tip of the south jetty (46°14′03″ N. lat., 124°04′05″ W. long.), and then along the south jetty to the point of intersection with the Buoy #10 line.

d. Stonewall Bank Groundfish Conservation Area: The area defined by the following coordinates in the order listed:

44°37.46′ N. lat.; 124°24.92′ W. long.;

44°37.46′ N. lat.; 124°23.63′ W. long.;

44°28.71′ N. lat.; 124°21.80′ W. long.;

44°28.71′ N. lat.; 124°24.10′ W. long.;

44°31.42′ N. lat.; 124°25.47′ W. long.;

and connecting back to 44°37.46′ N. lat.; 124°24.92′ W. long.

e. Klamath Control Zone: The ocean area at the Klamath River mouth bounded on the north by 41°38′48″ N. lat. (approximately six nautical miles north of the Klamath River mouth); on the west, by 124°23′00″ W. long. (approximately 12 nautical miles off shore); and, on the south, by 41°26′48″ N. lat. (approximately 6 nautical miles south of the Klamath River mouth).

C.5. Inseason Management: Regulatory modifications may become necessary inseason to meet preseason management objectives such as quotas, harvest guidelines, and season duration. In addition to standard inseason actions or modifications already noted under the season description, the following inseason guidance is provided to NMFS:

a. Actions could include modifications to bag limits, or days open to fishing, and extensions or reductions in areas open to fishing.

b. Coho may be transferred inseason among recreational subareas north of Cape Falcon on an impact neutral basis to help meet the recreational season duration objectives (for each subarea) after conferring with representatives of the affected ports and the Council′s SAS recreational representatives north of Cape Falcon.

c. NOAA Fisheries may transfer Chinook and coho between the recreational and commercial fisheries north of Cape Falcon on an impact neutral basis if there is agreement among the areas′ representatives on the SAS.

d. If retention of unmarked coho is permitted in the area from the U.S./Canada border to Cape Falcon, Oregon, by inseason action, the allowable coho quota will be adjusted to ensure preseason projected mortality of critical stocks is not exceeded.

C.6. Additional Seasons in State Territorial Waters: Consistent with Council management objectives, the States of Washington, Oregon, and California may establish limited seasons in state waters. Oregon State-water fisheries are limited to Chinook salmon. Check state regulations for details.

Section 3. Treaty Indian Management Measures for 2007 Ocean Salmon Fisheries

Note: This section contains restrictions in parts A, B, and C which must be followed for lawful participation in the fishery.

A. Season Descriptions

U.S.-Canada Border to Cape Falcon, OR

May 1 through the earlier of June 30 or 21,500 Chinook quota. All salmon except coho. If the Chinook quota for the May-June fishery is not fully utilized, inseason action may be taken to transfer up to 5,714 Chinook from the May-June quota into the July - September all-salmon season at a ratio of 1.0 to 0.35, resulting in a maximum increase of 2,000 Chinook in the July-September quota (C.5). If the May-June Chinook quota is exceeded, the excess will be deducted from the July-September all-salmon season at a ratio of 1.0 to 1.0. See size limit (B) and other restrictions (C).

July 1 through the earlier of September 15, or 13,500 preseason Chinook quota, or 38,000 coho quota (C.5).

All salmon. See size limit (B) and other restrictions (C).

B. Minimum Size (Inches)

Area (when open) and Fishery | Chinook: Total Length | Chinook: Head-off | Coho: Total Length | Coho: Head-off | Coho: Pink
North of Cape Falcon, OR |
Commercial | 24.0 | 18.0 | 16.0 | 12.0 | None
Ceremonial and Subsistence | None | None | None | None | None
Metric equivalents: 24.0 in=61.0 cm, 18.0 in=45.7 cm, 16.0in=40.6 cm, and 12.0 in=30.5 cm.

C. Special Requirements, Restrictions, and Exceptions

C.1.Tribe and Area Boundaries: All boundaries may be changed to include such other areas as may hereafter be authorized by a Federal court for that tribe's treaty fishery.

S'KLALLAM - Washington State Statistical Area 4B (All).

MAKAH - Washington State Statistical Area 4B and that portion of the FMA north of 48°02′15″ N. lat. (Norwegian Memorial) and east of 125°44′00″ W. long.

QUILEUTE - That portion of the FMA between 48°07′36″ N. lat. (Sand Pt.) and 47°31′42″ N. lat. (Queets River) and east of 125°44′00″ W. long.

HOH - That portion of the FMA between 47°54′18″ N. lat. (Quillayute River) and 47°21′00″ N. lat. (Quinault River) and east of 125°44′00″ W. long.

QUINAULT-That portion of the FMA between 47°40′06″ N. lat. (Destruction Island) and 46°53′18″N. lat. (Point Chehalis) and east of 125°44′00″ W. long.

C.2.Gear restrictions

a. Single point, single shank, barbless hooks are required in all fisheries.

b. No more than eight fixed lines per boat.

c. No more than four hand held lines per person in the Makah area fishery (Washington State Statistical Area 4B and that portion of the FMA north of 48°02′15″ N. lat. (Norwegian Memorial) and east of 125°44′00″ W. long.)

C.3.Quotas

a. The quotas include troll catches by the S'Klallam and Makah tribes in Washington State Statistical Area 4B from May 1 through September 15.

b. The Quileute Tribe will continue a ceremonial and subsistence fishery during the time frame of September 15 through October 15 in the same manner as in 2004, 2005, and 2006. Fish taken during this fishery are to be counted against treaty troll quotas established for the 2007 season (estimated harvest during the October ceremonial and subsistence fishery: 100 Chinook; 200 coho).

C.4. Area Closures

a. The area within a 6-nm radius of the mouths of the Queets River (47 31′42″ N. lat.) and the Hoh River (47 45′12″ N. lat.) will be closed to commercial fishing.

b. A closure within 2 nautical miles of the mouth of the Quinault River (47°21′00″ N. lat.) may be enacted by the Quinault Nation and/or the State of Washington and will not adversely affect the Secretary of Commerce's management regime.

C.5.Inseason Management: In addition to standard inseason actions or modifications already noted under the season description, the following inseason guidance is provided to NMFS:

a. Chinook remaining from the May through June treaty Indian commercial troll harvest guideline north of Cape Falcon may be transferred to the July through September harvest guideline Chinook quota on a fishery impact equivalent basis.

Section 4. Halibut Retention

Under the authority of the Northern Pacific Halibut Act, NMFS promulgated regulations governing the Pacific halibut fishery which appear at 50 CFR part 300, subpart E. On March 14, 2007, NMFS published a final rule (72 FR 11792) to implement the International Pacific Halibut Commission's (IPHC) recommendations, to announce fishery regulations for U.S. waters off Alaska and fishery regulations for treaty commercial and ceremonial and subsistence fisheries, some regulations for non-treaty commercial fisheries for U.S. waters off the West Coast, and approval of and implementation of the Area 2A Pacific halibut Catch Sharing Plan and the Area 2A management measures for 2007. The regulations and management measures provide that vessels participating in the salmon troll fishery in Area 2A (all waters off the States of Washington, Oregon, and California), which have obtained the appropriate IPHC license, may retain halibut caught incidentally during authorized periods in conformance with provisions published with the annual salmon management measures. A salmon troller may participate in the halibut incidental catch fishery during the salmon troll season or in the directed commercial fishery targeting halibut, but not both.

The following measures have been approved by the IPHC, and implemented by NMFS. During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on. License applications for incidental harvest must be obtained from the International Pacific Halibut Commission (phone: 206-634-1838). Applicants must apply prior to April 1 of each year. Incidental harvest is authorized only during May and June troll seasons and after June 30 if quota remains and if announced on the NMFS hotline (phone: 800-662-9825). ODFW and WDFW will monitor landings. If the landings are projected to exceed the 40,227-lb (18246.66 kg) preseason allocation or the total Area 2A non-Indian commercial halibut allocation, NMFS will take inseason action to close the incidental halibut fishery.

Beginning May 1, license holders may land no more than one Pacific halibut per each 3 Chinook, except one Pacific halibut may be landed without meeting the ratio requirement, and no more than 35 halibut may be landed per trip. Pacific halibut retained must be no less than 32 inches (81.28 cm) in total length (with head on).

NMFS and the Council request that salmon trollers voluntarily avoid a “C-shaped” YRCA (North Coast Recreational YRCA) in order to protect yelloweye rockfish. The area is defined in the Pacific Council Halibut Catch Sharing Plan in the North Coast subarea (WA marine area 3)(See Section 1.C.7. for the coordinates).

Section 5. Geographical Landmarks

Wherever the words “nautical miles off shore” are used in this document, the distance is measured from the baseline from which the territorial sea is measured.

Geographical landmarks referenced in this document are at the following locations:

Cape Flattery,WA | 48°23′00″ N. lat.
Cape Alava, WA | 48°10′00″ N. lat.
Queets River, WA | 47°31′42″ N. lat.
Leadbetter Point, WA | 46°38′10″ N. lat.
Cape Falcon, OR | 45°46′00″ N. lat.
Florence South Jetty, OR | 44°00′54″ N. lat.
Humbug Mountain, OR | 42°40′30″ N. lat.
Oregon-California Border | 42°00′00″ N. lat.
Humboldt South Jetty, CA | 40°45′53″ N. lat.
Horse Mountain, CA | 40°05′00″ N. lat.
Point Arena, CA | 38°57′30″ N. lat.
Point Reyes, CA | 37°59′44″ N. lat.
Point San Pedro, CA | 37°35′40″ N. lat.
Pigeon Point, CA | 37°11′00″ N. lat.
Point Sur, CA | 36°18′00″ N. lat.
Point Conception, CA | 34°27′00″ N. lat.

Section 6. Inseason Notice Procedures

Actual notice of inseason management actions will be provided by a telephone hotline administered by the Northwest Region, NMFS, 206-526-6667 or 800-662-9825, and by U.S. Coast Guard Notice to Mariners broadcasts. These broadcasts are announced on Channel 16 VHF-FM and 2182 KHz at frequent intervals. The announcements designate the channel or frequency over which the Notice to Mariners will be immediately broadcast. Inseason actions will also be filed with the Federal Register as soon as practicable. Since provisions of these management measures may be altered by inseason actions, fishermen should monitor either the telephone hotline or Coast Guard broadcasts for current information for the area in which they are fishing.

Classification

This notification of annual management measures is exempt from review under Executive Order 12866.

The provisions of 50 CFR 660.411 state that if, for good cause, an action must be filed without affording a prior opportunity for public comment, the measures will become effective; however, public comments on the action will be received for a period of 15 days after the date of publication in the Federal Register. NMFS will receive public comments on this action until May 18, 2007. These regulations are being promulgated under the authority of 16 USC 1855(d).

The Assistant Administrator for Fisheries, NOAA (AA) finds good cause under 5 U.S.C. 553(b)(B), to waive the requirement for prior notice and opportunity for public comment, as such procedures are impracticable.

The annual salmon management cycle begins May 1 and continues through April 30 of the following year. May 1 was chosen because the pre-May harvests constitute a relatively small portion of the annual catch. The time-frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from the previous year's observed spawning escapement, vary substantially from year to year, and are not available until January and February because spawning escapement continues through the fall.

The preseason planning and public review process associated with developing Council recommendations is initiated in February as soon as the forecast information becomes available. The public planning process requires coordination of management actions of four states, numerous Indian tribes, and the Federal Government, all of which have management authority over the stocks. This complex process includes the affected user groups, as well as the general public. The process is compressed into a 2-month period which culminates at the April Council meeting at which the Council adopts a recommendation that is forwarded to NMFS for review, approval and implementation of fishing regulations effective on May 1.

Providing opportunity for prior notice and public comments on the Council's recommended measures through a proposed and final rulemaking process would require 30 to 60 days in addition to the 2-month period required for development of the regulations. Delaying implementation of annual fishing regulations, which are based on the current stock abundance projections, for an additional 60 days would require that fishing regulations for May and June be set in the previous year without knowledge of current stock status. Although this is currently done for fisheries opening prior to May, relatively little harvest occurs during that period (e.g., in 2006 less than 10 percent of commercial and recreational harvest occurred prior to May 1). Allowing the much more substantial harvest levels normally associated with the May and June seasons to be regulated in a similar way would impair NOAA Fisheries' ability to protect weak and ESA listed stocks and provide harvest opportunity where appropriate.

Overall, the annual population dynamics of the various salmon stocks require managers to vary the season structure of the various West Coast area fisheries to both protect weaker stocks and give fishers access to stronger salmon stocks, particularly hatchery produced fish. Failure to implement these measures immediately could compromise the status of certain stocks, or result in foregone opportunity to harvest stocks whose abundance has increased relative to the previous year thereby undermining the purpose of this agency action. Based upon the above-described need to have these measures effective on May 1 and the fact that there is limited time available to implement these new measures after the final Council meeting in April and before the commencement of the ocean salmon fishing year on May 1, NOAA Fisheries has concluded it is impracticable to provide an opportunity for prior notice and public comment under 5 U.S.C. 553(b)(B).

It is impracticable because if the 2007 ocean salmon fishery was to open under the 2006 management measures, the landing and possession limit in the area north of Cape Falcon would be higher, restricting the ability of NOAA Fisheries to manage for the May through June Chinook quota. Also in the area south of Cape Falcon, operating under the 2006 management measures would unnecessarily close large section of Oregon and California coasts, thereby restricting fishing opportunity.

The AA also finds that good cause exists under 5 U.S.C. 553(d)(3), to waive the 30-day delay in effectiveness of this final rule. As previously discussed, data are not available until February and management measures not finalized until early April. These measures are essential to conserve threatened and endangered ocean salmon stocks, and to provide for harvest of more abundant stocks. If these measures are not in place on May 1, the previous year's management measures will continue to apply. Failure to implement these measures immediately could compromise the status of certain stocks, including Lower Columbia River Chinook and Puget Sound Chinook, and negatively impact international, state, and tribal salmon fisheries, thereby undermining the purposes of this agency action.

To enhance notification of the fishing industry of these new measures, NMFS is announcing the new measures over the telephone hotline used for inseason management actions and is also posting the regulations on both of its West Coast regional websites (www.nwr.noaa.gov and swr.nmfs.noaa.gov). NMFS is also advising the States of Washington, Oregon, and California on the new management measures. These states announce the seasons for applicable state and Federal fisheries through their own public notification systems.

This action contains collection-of-information requirements subject to the Paperwork Reduction Act (PRA), and which have been approved by OMB under control number 0648-0433. The public reporting burden for providing notifications if landing area restrictions cannot be met, or to obtain shelter in Brookings, OR, is estimated to average 15 minutes per response. This estimate includes the time for reviewing instructions, searching existing data sources, gathering and maintaining the data needed, and completing and reviewing the collection of information. Send comments regarding this burden estimate, or any other aspect of this data collection, including suggestions for reducing the burden, to NMFS (see ADDRESSES) and by e-mail to David_Rostker@omb.eop.gov, or fax to 202-395-7285.

Notwithstanding any other provision of the law, no person is required to respond to, nor shall any person be subject to a penalty for failure to comply with, a collection of information subject to the requirements of the PRA, unless that collection of information displays a currently valid OMB control number.

Since 1989, NOAA Fisheries Service has listed under the ESA 27 evolutionarily significant units (ESUs) of salmonids on the west coast. As the listings have occurred, NOAA Fisheries Service has conducted formal ESA section 7 consultations and issued biological opinions (BOs), and made determinations under section 4(d) of the ESA, that consider the impacts to listed salmonid species resulting from proposed implementation of the Salmon FMP, or in some cases, from proposed implementation of the annual management measures. Associated with the BOs are incidental take statements which specify the level of take that is expected. Some of the BOs have concluded that implementation of the Salmon FMP is not likely to jeopardize the continued existence of certain listed ESUs and provided incidental take statements. Other BOs have found the Salmon FMP is likely to jeopardize certain listed ESUs and have identified reasonable and prudent alternatives (consultation standards) that would avoid the likelihood of jeopardizing the continued existence of the ESU under consideration, and provided an incidental take statement for the reasonable and prudent alternative.

Table 1. NMFS' Endangered Species Act consultations and section 4(d) determinations related to ocean fisheries implemented under the Salmon FMP and duration of the proposed action covered by each.
Date | Evolutionarily Significant Unit covered and effective period
March 8, 1996 | Snake River Chinook and sockeye (until reinitiated)
April 28, 1999 | Oregon coast coho, S. Oregon/ N. California coast coho, Central California coast coho (until reinitiated)
April 28, 2000 | Central Valley spring Chinook and California coast Chinook (until reinitiated)
April 27, 2001 | Hood Canal summer chum 4(d) limit and associated biological opinion (until reinitiated).
April 30, 2001 | Upper Willamette River Chinook, Upper Columbia River spring Chinook, Ozette Lake sockeye, ten steelhead ESUs, Columbia River chum (until reinitiated).
April 27, 2004 | Sacramento River winter Chinook (through 2009)
June 13, 2005 | California Coastal Chinook (until reinitiated)
March 4, 2005 | Puget Sound Chinook (through April 30, 2010)
April 30, 2007 | Lower Columbia River coho and Chinook (through April 30, 2007)

At the start of the preseason planning process for the 2007 management season, NOAA Fisheries Service provided a letter to the Council, dated March 1, 2007, summarizing its ESA consultation standards for listed species as required by the Salmon FMP. The Council′s recommended management measures comply with NOAA Fisheries Service′s ESA consultation standards and guidance for those listed salmon species which may be affected by Council fisheries. In some cases, the recommended measures result in impacts that are more restrictive than NOAA Fisheries Service′s ESA requirements.

Southern resident killer whales were listed as endangered effective February 16, 2006. NOAA Fisheries consulted on the effects of the 2006 fisheries on killer whales and concluded that the fisheries were not likely to jeopardize the continued existence of the species. NOAA Fisheries is again consulting regarding the effects of the 2007 fisheries on killer whales through a separate biological opinion. NOAA Fisheries expects to complete the consultation prior to May 1, 2007. While the consultation may not be completed prior to approval of this action, NOAA Fisheries has determined that the anticipated fisheries will not make any irreversible or irretrievable commitment of resources with respect to the agency action which has the effect of foreclosing the formulation or implementation of any reasonable and prudent alternative measures. In the event that the review suggests that further constraints in the 2007 fisheries are necessary, appropriate corrections can be made by NOAA Fisheries through inseason action.

This final rule was developed after meaningful consultation with the tribal representative on the Council who has agreed with the provisions that apply to tribal vessels.

Authority: 16 U.S.C. 773-773k; 1801 et seq.

Dated: May 1, 2007.
William T. Hogarth,
Assistant Administrator for Fisheries,National Marine Fisheries Service.

[FR Doc. 07-2204 Filed 5-1-07; 1:13 pm]

BILLING CODE 3510-22-S